DEPARTMENT OF COMMERCE

National Oceanic and Atmospheric Administration

50 CFR Part 660

[Docket No. 221206-0261]

RIN 0648-BM62

Magnuson-Stevens Act Provisions; Fisheries Off West Coast States; Pacific Coast Groundfish Fishery; 2023-2024 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial and recreational groundfish fisheries for the remainder of the 2023 fishing year. This action is intended to allow commercial and recreational fishing vessels to access more abundant groundfish stocks while protecting overfished and depleted stocks.

DATES: This final rule is effective October 2, 2023.

ADDRESSES: Electronic Access: This rule is accessible via the internet at the Office of the Federal Register website at https://www.federalregister.gov. Background information and documents are available at the Pacific Fishery Management Council's website at http://www.pcouncil.org/ including the 2021 stock assessment for quillback rockfish (see Agenda Item E.2, Attachment 4, November 2021) and supporting information for the Council's recommendations at the September 2023 meeting.

FOR FURTHER INFORMATION CONTACT: Keeley Kent, phone: 206-247-8252 or email: keeley.kent@noaa.gov.

SUPPLEMENTARY INFORMATION:

Background

The Pacific Coast Groundfish Fishery Management Plan (PCGFMP) and its implementing regulations at title 50 in the Code of Federal Regulations (CFR), part 660, subparts C through G, regulate fishing for over 90 species of groundfish in the exclusive economic zone (EEZ) off the coasts of Washington, Oregon, and California. The Pacific Fishery Management Council (Council) develops groundfish harvest specifications and management measures for 2 year periods (i.e., a biennium). NMFS published the final rule to implement harvest specifications and management measures for the 2023-2024 biennium for most species managed under the PCGFMP on December 16, 2022 (87 FR 77007). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its September 2023 meeting, in an effort to limit mortality of quillback rockfish off California (as discussed below), the Council recommended NMFS prohibit quillback rockfish retention in federal waters off California in all recreational (i.e., bag limit of zero) and commercial (i.e., zero retention under trip limit for minor nearshore rockfish complex) groundfish fisheries; close the “nearshore” recreational groundfish fisheries for the remainder of 2023 in federal waters for the Northern Groundfish Management Area (GMA), Mendocino GMA, San Francisco GMA, and Central GMA; and prohibit recreational vessels from fishing in federal waters shoreward of the 50 fathom rockfish conservation area (RCA) boundary line. Shelf rockfish, slope rockfish, and lingcod may be taken seaward of the 50-fathom boundary line by recreational vessels, while it will be unlawful to take or possess nearshore rockfish, cabezon or greenlings at any depth in federal waters by recreational vessels. To further limit incidental catch and discards of quillback rockfish, the Council also recommended modifying fixed gear trip limits between 42° North (N) latitude (lat.) to 34°27′ N lat. for limited entry (LE) and open access (OA) fisheries for the following co-occurring species: Minor Shelf Rockfish complex, widow rockfish, yellowtail rockfish, canary rockfish, Minor Nearshore Rockfish complex, lingcod, chilipepper rockfish, bocaccio rockfish, and cabezon.

In addition to the quillback rockfish related management measure adjustments, the Council recommended modifying fixed gear trip limits for LE and OA fisheries for sablefish north of 36° N lat. and lingcod north of 42° N lat. All of the inseason actions the Council recommended were adjustments to be implemented for the remainder of the 2023 fishing year.

Pacific Coast groundfish fisheries are managed using harvest specifications or limits (e.g., overfishing limits [OFL], acceptable biological catch [ABC], annual catch limits [ACL] and harvest guidelines [HG]) recommended biennially by the Council and based on the best scientific information available at that time (50 CFR 660.60(b)). During development of the harvest specifications, the Council also recommends management measures (e.g., Annual Catch Targets (ACTs), trip limits, area closures, and bag limits) that are meant to mitigate catch so as not to exceed the harvest specifications. The harvest specifications and mitigation measures developed for the 2023-2024 biennium used data through the 2021 fishing year. Each of the adjustments to mitigation measures discussed below are based on updated fisheries information that was unavailable when the analysis for the current harvest specifications was completed. As new fisheries data becomes available, adjustments to mitigation measures are projected so as to help harvesters achieve but not exceed the harvest limits.

Quillback Rockfish Off California

Under current management, quillback rockfish are a contributing species within the Minor Nearshore Rockfish complex north and south of 40°10′ N lat. The harvest specifications for this species (ACL, ABC, OFL) contribute to the harvest specifications of the complex. Quillback rockfish was assessed in 2021 and that assessment was determined to be the best scientific information available by the Pacific Fishery Management Council's Science and Statistical Committee as well as NMFS (see Addresses). Due to differences in data availability and fishery exploitation, the quillback rockfish assessment split the species into three separate assessment areas by state boundary line. The individual assessment areas suggested differences in abundance and potential localized depletion. The assessment for the portion of quillback rockfish off California indicated that population is depleted and limited mixing with other populations of quillback rockfish off the West Coast is thought to occur. Additionally, the assessment indicated the species has been fished at levels too high to maintain good yields and a healthy population since the 1990s.

In an analysis for the November 2021 Council meeting, a report by the Groundfish Management Team (GMT) showed continued exceedances of the OFL contribution of quillback rockfish to the nearshore rockfish complex every year in all 4 years between 2017 and 2020 (Agenda Item E.3.a GMT Report 2, November 2021). Additionally, the Council noted that quillback rockfish has a 2.22 vulnerability score, making it one of the most vulnerable rockfishes in the PCGFMP. For these reasons, the Council recommended species-specific ACTs for quillback rockfish off the coast of California as part of the 2023-24 harvest specifications and management measures (87 FR 77007, December 16, 2022) to support better tracking of mortality in light of the depleted nature of quillback off California.

Quillback rockfish have a shared commercial and recreational species-specific ACT of 0.87 metric tons (mt) for the area between 42° N lat. and 40°10′ N lat. and 0.89 mt for south of 40°10′ N lat. (see 50 CFR 660 Table 1a and Table 2a). The ACTs were set under the 2023-24 Groundfish Harvest Specifications and Management Measures action in response to the 2021 stock assessment for quillback rockfish off the coast of California, which has been deemed the best scientific information available by NOAA Fisheries and the scientific advisors to the Council. Given quillback rockfish are currently managed in a stock complex, the new ACT was meant to essentially formalize the ACL contributions for management purposes. Setting the ACTs equal to the ACL contributions allows the Council to recommend necessary management measures inseason when the ACL contribution is met or projected to be met. Exceeding the ACL contribution for species in a complex would otherwise typically not trigger a Council response or accountability measure.

At the September 2023 Council meeting, the California Department of Fish and Wildlife (CDFW) requested that the Council take action in federal waters similar to management measures recently taken in California state waters as a result of mortality of quillback rockfish off California estimated to substantially exceed the federally set harvest limits (see ADDRESSES). Updated quillback rockfish mortality as of August 27, 2023, for California recreational fisheries and September 5, 2023 for California commercial landings is provided in Table 1 below (Agenda Item G.8.a Supplemental GMT Report 5, September 2023). Table 1 demonstrates that estimated mortality across California (4.12 mt), without taking into account commercial discards, is substantially higher than the combined ACTs (1.76 mt) and substantially higher than the combined OFL contributions (2.1 mt). Therefore, because the ACTs were set in order to address localized depletion identified in the 2021 stock assessment, the Council determined that major reductions in fishing opportunity for the remainder of the year are warranted.

Table 1—Best Estimate of 2023 California Quillback Rockfish Commercial Non-Trawl Landings and Recreational Mortality, in Metric Tons (mt)
[California Recreational Fishery Survey (CRFS) estimates through June, Anticipated Catch Values (ACVs) through August 27; commercial landings data retrieved from PacFIN September 5. Inseason catch estimates are compared to the 2023 quillback rockfish ACT/ACL contributions north and south of 40°10′ N lat.]
Area | Estimated recreational total mortality (mt) | Commercial landings (mt) | Combined mortality (mt) ᵃ | 2023 Quillback ACT (= ACL contribution) (mt) | % Attainment
North 40°10′ N lat | 1.75 | 0.25 | 2.00 | 0.87 | 230
South 40°10′ N lat | 1.84 | 0.28 | 2.12 | 0.89 | 238
ᵃ Commercial does not include estimated discard mortality.

In response, the Council's GMT conducted analysis to see if there were any particular aspects of the fishery (by sector, location, gear type, etc.) where quillback were most commonly encountered, in order to narrow the scope of potential restrictions that may be most effective at reducing further impacts to quillback rockfish for the remainder of 2023.

The GMT analyzed observer (commercial only) and landings data (commercial and recreational) from 2021 and 2022 for the two geographic areas off the coast of California with quillback rockfish ACTs in 2023: between 42° N lat. and 40°10′ N lat. and south of 40°10′ N lat. The sectors with highest estimated quillback rockfish removals in 2021 and 2022 were as follows: landings in the recreational fishery south of 40°10′ N lat. (7.5 mt in 2021 and 6.3 mt in 2022), discard mortality in the OA fixed gear fishery north of 40°10′ N lat. in 2022 (5.3 mt), landings in the recreational fishery north of 40°10′ N lat. (3.0 mt in 2021 and 2.9 mt in 2022), and both landings and discards combined in the nearshore fishery both north (2.2 mt in 2021 and 1.9 mt in 2022) and south (2.7 mt in 2021 and 1.6 mt in 2022).

This information indicated that in 2021 and 2022, most landed catch of quillback rockfish was from recreational fisheries, OA fixed gear had high estimated discards in 2022, and the nearshore fishery has a relatively lower overall but more consistent harvest tonnage from a mix of both landings and discards. Further investigation on commercial fishery encounters indicated that very few trips in the OA fixed gear fishery that fished with hook and line gears caught quillback rockfish in 2021 and 2022 (approximately 2 percent of trips between 42° N lat. and 40°10′ N lat. and less than 0.2 percent of trips south of 40°10′ N lat.). Comparatively, the nearshore fishery has much higher encounter rates with quillback rockfish, with approximately 15 percent of trips between 42° N lat. and 40°10′ N lat. and 6 percent of trips south of 40°10′ N lat. catching quillback rockfish.

A further consideration of limited available spatial data indicated that quillback rockfish are very rarely encountered in waters deeper than 50 fathoms (91.4 meters (m)) but that the depth ranges where they are most commonly encountered varies somewhat by latitude with more attributed catches in shallower depths (e.g., 11-30 fathoms, 20.1-54.9 m) in the more northern areas and deeper than 20 fathoms (36.6 m) in southern parts of the California coast.

The GMT also looked at whether the legal non-bottom contact hook-and-line gear allowed in the non-trawl rockfish conservation area (RCA) (50 CFR 660.330(b)(3)) has been encountering quillback rockfish. This gear was a new management measure under the 2023-24 harvest specifications and management measures (87 FR 77007, December 16, 2022) within the non-trawl RCA in order to provide additional opportunity to commercial non-trawl fisheries to target healthy stocks while relieving pressure on depleted or constraining nearshore stocks. While data is limited so far, the gear configurations have shown to have relatively low bycatch of groundfish species of concern while being able to harvest healthy midwater rockfish. In the 14 years the three Experimental Fishing Permits (EFPs) operated that used similar gear (Emley-Platt, Real Good Fish, and Oregon RFA EFP), a total of only three quillback rockfish were caught. Further analysis showed that of the 108 mt of total catch in all three EFPs combined, approximately only 3 percent was quillback rockfish.

In light of this new information, the Council recommended limiting the closures of trip limits by gear type and by area in order to maintain some fishing opportunity with limited quillback rockfish impacts, and focusing action on the sectors with greater quillback impacts. The recommendations from the Council are projected to reduce take of quillback rockfish in order to address localized depletion while minimizing the economic impact to fishing communities to the extent possible. Therefore, the Council recommended and NMFS is implementing, by modifying Tables 2 North and South to part 660, subpart E, Tables 3 North and South to part 660, subpart F, and 50 CFR 660.360(c)(3), a zero pound trip and bag limits, thereby effectively prohibiting retention of quillback rockfish off California (south of 42° N lat.) in both commercial (0 lbs per bimonthly period trip limit) and recreational fisheries in federal waters (0 lbs bag limit). The Council also recommended and NMFS is implementing, by Tables 2 North and South to part 660, subpart E, a zero pound trip limit for LE fisheries, effectively closing those LE fisheries for period 6 (November-December) between 42° North (N) latitude (lat.) to 34°27′ N lat. (unless otherwise specified) for the following stocks and complexes: Minor Shelf Rockfish complex, widow rockfish, yellowtail rockfish (42° N lat. to 40°10′ N lat), canary rockfish, Minor Nearshore Rockfish complex, lingcod, chilipepper rockfish (40°10′ N lat. to 34°27′ N lat.), bocaccio rockfish (40°10′ N lat. to 34°27′ N lat.), and cabezon.

The Council recommended and NMFS is implementing, by modifying Tables 3 North and South to part 660, subpart F, a zero pound trip limit for OA fisheries, effectively closing the OA fisheries for period 6 (November-December) between 42° North (N) latitude (lat.) to 34°27′ N lat. for the following stocks and complexes: Minor Nearshore Rockfish complex, lingcod, and cabezon.

The Council recommended and NMFS is implementing, by modifying Tables 3 North and South to part 660, subpart F, a zero pound trip limit for OA fisheries, effectively closing the OA fishieries for period 6 (November-December), except for vessels using legal non-bottom contact hook and line gear (as defined at § 660.330(b)(3)) between 42° North (N) latitude (lat.) to 34°27′ N lat. (unless otherwise specified) for the following stocks and complexes: minor shelf rockfish (42° N lat. to 40°10′ N lat), widow rockfish, yellowtail rockfish (42° N lat. to 40°10′ N lat), canary rockfish, chilipepper rockfish (40°10′ N lat. to 34°27′ N lat.), and bocaccio rockfish (40°10′ N lat. to 34°27′ N lat.).

Additionally, the Council recommended and NMFS is implementing, by modifying 50 CFR 660.360, a closure for the nearshore recreational groundfish fisheries for the remainder of 2023 in federal waters for the Northern GMA, Mendocino GMA, San Francisco GMA, and Central GMA; and prohibiting recreational vessels from fishing in federal waters shoreward of the 50 fathom RCA boundary line. Shelf rockfish, slope rockfish, and lingcod may be taken seaward of the 50-fathom boundary line by recreational vessels, while it will be unlawful to take or possess nearshore rockfish, cabezon or greenlings at any depth in federal waters by recreational vessels.

Vermilion Rockfish

Vermilion rockfish off California are currently managed as part of the Minor Shelf Rockfish complex, south of 40°10′ N latitude; as well as the Minor Shelf Rockfish complex north of 40°10′ N latitude, but only in the area between 42° and 40°10′ N lat. For 2023, the southern complex has an ACL of 1,469 mt, and vermilion rockfish has an ACL contribution of 281.3 mt; the northern complex has an ACL of 1,283 mt, and vermilion rockfish has an ACL contribution of 6.5 mt within it.

With the changes described above, which will shift fishing effort from the nearshore out to the shelf, concerns about limiting shelf stocks, specifically vermilion rockfish, arose. Due to the high value of vermilion rockfish, there are concerns about potential effort increases to minor shelf rockfish species, especially vermilion rockfish, as well as additional concerns with non-compliance in utilizing the legal non-bottom contact hook and line gear (as defined at § 660.330(b)(3)). While the Council intends to minimize impacts to quillback rockfish, the intent of this action is also to avoid overharvesting other species. To achieve this, the Council recommended reducing trip limits to minimize the potential for effort shift. Within the Minor Shelf Rockfish Complex, vermilion rockfish south of 40°10′ ACL contribution is projected to be exceeded and therefore the Council determined that additional trip limit reductions should be taken. The expected mortality under current limits are shown in Table 2.

Table 2—Projected Landings of Vermilion, Vermilion Allocation, and Projected Percentage of Vermilion Attained Through the End of the Year by Current Trip Limit and Fishery
Area | Projected landings (mt) | OFL/ABC/ACL Contribution to the Minor Shelf Complex | Projected attainment of ACL contribution
42° N lat.-40°10′ N lat | 6.7 mt | OFL=6.99; ABC/ACL=6.54 | 102
40°10′ N lat.-34°27′ N lat | 375.0 mt | OFL=311.24; ABC/ACL=281.3 | 133

Given that the new LE trip limits for the Minor Shelf Rockfish complex will be set to zero for the areas between 42° N lat. to 40°10′ N lat. and 40°10′ N lat. to 34°27′ N lat. for period 6 (November-December), it is assumed that the LE entrants will shift their effort to the OA fishery when targeting the Minor Shelf Rockfish complex since legal non-bottom contact hook and line gear (as defined at § 660.330(b)(3)) will still be allowed in that area. Therefore, the GMT analyzed the potential reduction to open access Minor Shelf Rockfish complex trip limits between 42° N lat. to 40°10′ N lat. and 40°10′ N lat. to 34°27′ N lat. Additionally, the GMT analyzed a potential reduction to the vermilion rockfish subtrip limit between 40°10′ N lat. and 34°27′ N lat. (Agenda Item G.8.a Supplemental GMT Report 5, September 2023).

Consequently, the Council recommended and NMFS is implementing, by modifying Tables 3 North and South to part 660, subpart F, a closure of the Minor Shelf Rockfish complex trip limit for all OA gear between 42° N lat. to 34°27′ N lat. except legal non-bottom contact hook and line gear (as defined at § 660.330(b)(3)) (as discussed above). For vessels using legal non-bottom contact hook and line gear, the Council recommended and NMFS is implementing a reduction in the Minor Shelf Rockfish complex trip limits for period 6 (November-December). Between 42° N lat. to 40°10′ N lat., the Minor Shelf Rockfish trip limit will be 400 lbs. (181.4 kg) per month. Between 40° 10′ N lat. to 34°27′ N lat., the trip limit will be 2,000 lbs. (907.2 kg) per bimonthly period, of which no more than 200 lb. (90.7 kg) may be vermilion rockfish.

Sablefish

Sablefish is an important commercial species on the west coast with vessels targeting sablefish with both trawl and fixed gear (longlines and pots/traps). Sablefish is managed with a coast-wide ACL that is apportioned north and south of 36° N lat. based on a 5-year rolling average of swept-area biomass from the trawl survey. In 2023, the portion of the ACL for sablefish north of 36° N lat. is 8,486 mt with a fishery HG of 7,600 mt. The fishery HG north of 36° N lat. is further divided between the Limited Entry Fixed Gear (LEFG) and OA sectors with 90.6 percent, or 6,885 mt, going to the LEFG sector and 9.4 percent, or 714 mt, going to the OA sector.

At the September 2023 Council meeting, the Council's GMT received requests from industry members and members of the Council's Groundfish Advisory Subpanel to examine the potential to increase sablefish trips limits for the LEFG and OA fisheries north of 36° N lat. Landings in both northern sectors are tracking well below their respective sector-specific targets so far in 2023, and the LEFG sector in particular had a slow start to the fishing season, largely driven by fishing opportunities off Alaska. The intent of increasing trip limits is to increase harvest opportunities for vessels targeting sablefish. To evaluate potential increases to sablefish trip limits, the GMT made model-based landings projections under current regulations and alternative sablefish trip limits, including the limits ultimately recommended by the Council, for the LEFG and OA fisheries through the remainder of the year. Table 4 shows the projected sablefish landings, the sablefish allocations, and the projected attainment percentage by fishery under both the current trip limits and the Council's recommended adjusted trip limits. These projections were based on the most recent catch information available through early September 2023. Industry did not request changes to sablefish trip limits for the LEFG or OA fishery south of 36° N lat. Therefore, NMFS and the Council did not consider trip limit changes for these fisheries at this time.

Table 3—Projected Landings of Sablefish, Sablefish Allocation, and Projected Percentage of Sablefish Attained Through the End of the Year by Trip Limit and Fishery
Fishery | Trip limits | Projected landings (round weight) (mt) | Allocation (mt) | Projected percentage attained
LEFG North of 36° N lat. | Current: 4,500 lb. (2,042 kg)/week, not to exceed 9,000 lb. (4,082 kg)/two months | 215-240 | 417 | 52-58
| Recommended: 9,000 lb. (4,082 kg)/week, not to exceed 18,000 lb. (8,165 kg)/two months | 317-364 |  | 82-87
OA North of 36° N lat. | Current: 3,000 lb. (1,361 kg)/day, not to exceed 6,000 lb. (2,722 kg)/two months | 520-561 | 687 | 76-82
| Recommended: 4,000 lb. (1,814 kg)/day, not to exceed 8,000 lb. (8,629 kg)/two months | 599-654 |  | 87-95

As shown in Table 4, under the current trip limits, the model predicts catches of sablefish will be at or below 58 percent, or 240 mt of the 417 mt allocation, for LEFG and 82 percent, or 561 mt of the 687 mt allocation, for OA fishery north of 36° N lat. Under the Council's recommended trip limits, sablefish attainment is projected to increase in the LEFG and OA fisheries north of 36° N lat. up to 87 and 95 percent, respectively.

Trip limit increases for sablefish are intended to increase attainment of the non-trawl HG. The recommended trip limit increases do not change projected impacts to co-occurring rebuilding species compared to the impacts anticipated in the 2023-24 harvest specifications because the projected impacts to those species assume that the entire sablefish ACL is harvested. Therefore, the Council recommended and NMFS is implementing, by modifying Tables 2 North and South to part 660, subpart E, trip limit changes for the LEFG fishery north of 36° N lat. to set the limits at “9,000 lbs. (4,082.3 kg)/week not to exceed 18,000 lbs. (8,164.7 kg)/2 months” beginning in period 6 (November-December) through the end of the year. NMFS is also implementing, by modifying Tables 3 North and South to part 660, subpart F, trip limit changes for the OA sablefish fishery north of 36° N lat. to set the limits at 4,000 lbs. (1,814.4 kg)/week not to exceed 8,000 lbs. (3,628.7 kg)/2 months starting with period 6 (November-December) through the end of the year.

Lingcod

Prior to the September 2023 meeting, the GMT also received a request to increase the lingcod trip limits north of 42° N lat. to reduce regulatory discarding and increase economic opportunity. Status quo is currently resulting in regulatory discard for certain participants in the fishery. Lingcod is managed with an ACL north of 40°10′ N lat. and an ACL south of 40°10′ N lat. The 2023 ACL for lingcod north of 40°10′ N lat. is 4,378 mt.

To evaluate potential increases to lingcod trip limits north of 42° N lat., the GMT made model-based landings projections under current regulations and alternative trip limits, including the limits ultimately recommended by the Council, for the LE and OA fisheries through the remainder of the year. Table 5 shows the projected lingcod landings, the lingcod allocations, and the projected attainment percentage by fishery under both the current trip limits and the Council's recommended adjusted trip limits for north of 42° N lat. These projections were based on the most recent catch information available through late August 2023.

Table 4—Projected Landings of Lingcod, Lingcod Allocation, and Projected Percentage of Lingcod North of 42° N Lat. Attained Through the End of the Year by Trip Limit and Fishery
Fishery | Trip limits | Projected landings (round weight) (mt)
LE North of 42° N lat | Current: 7,000 lb. (3,175.1 kg)/two months | 160.8
OA North of 42° N lat | Current: 3,500 lb. (1,587.6 kg)/month
LE North of 42° N lat | Recommended: 9,000 lb. (4,082.3 kg)/two months | 166.0
OA North of 42° N lat | Recommended: 4,500 lb. (2,041.2 kg)/month

Under the current trip limits, the model predicts catches of lingcod north of 42° N lat. will total 160.8 mt, which is 7.1 percent of the 2023 non-trawl allocation of lingcod (2,254.1 mt). Under the Council's recommended trip limits, lingcod mortality north of 42° N lat. is expected to increase to 166.0 mt, which is 7.4 percent of the 2023 non-trawl allocation of lingcod.

Trip limit increases for lingcod are intended to marginally increase attainment of the non-trawl allocation. The recommended trip limit increases do not appreciably change projected impacts to co-occurring rebuilding species compared to the impacts anticipated in the 2023-2024 harvest specifications because the projected impacts to those species assume that the entire lingcod ACL is harvested. Therefore, the Council recommended and NMFS is implementing, by modifying Table 2 North to part 660, subpart E, and Table 3 North to part 660, subpart F, trip limit changes for LE and OA lingcod north of 42° N lat. for period 6 (November-December) as shown above in Table 5. These changes will be implemented through the end of 2023.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting the NMFS West Coast Region (see FOR FURTHER INFORMATION CONTACT, above), or view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. Changes of this nature were anticipated in the final rule for the 2023-24 harvest specifications and management measures which published on December 16, 2022 (87 FR 76007). The majority of the adjustments to management measures in this action address a conservation concern for quillback rockfish off of California as new information demonstrates the current management measures are not sufficient to control mortality as is needed. Therefore, providing a comment period for this action could hamper the adherence to scientifically informed reference points, created to ensure sustainability of the affected fisheries, and would delay measures intended to address localized depletion of quillback rockfish. In addition, trip limit increases for sablefish and lingcod are expected to potentially increase economic value of the fisheries by increasing harvest opportunity and reducing regulatory discards. Delaying implementation to allow for public comment would likely reduce the economic benefits to the commercial fishing industry and the businesses that rely on that industry, because the new regulations could not be implemented in time to realize the projected benefits to fishing communities. For these same reasons, NMFS finds reason to waive the 30-day delay in effectiveness pursuant to 5 U.S.C. 553(d)(1) so that this final rule may become effective upon publication in the Federal Register.

List of Subjects in 50 CFR Part 660

Fisheries, Fishing, and Indian Fisheries.

Dated: September 27, 2023.
Jennifer M. Wallace,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Revise Table 2 (North) to part 660, subpart E, to read as follows:

BILLING CODE 3510-22-P

3. Revise Table 2 (South) to part 660, subpart E, to read as follows:

4. Revise Table 3 (North) to part 660, subpart F, to read as follows:

5. Revise Table 3 (South) to part 660, subpart F, to read as follows:

BILLING CODE 3510-22-C

6. In 660.360, revise paragraph (c)(3) introductory text, and paragraphs (c)(3)(i)(A)(1) through (5) to read as follows:

§ 660.360 Recreational fishery—management measures.

* * * * *

(c) * * *

(3) California. Seaward of California, for groundfish species not specifically mentioned in this paragraph, fishers are subject to the overall 20-fish bag limit for all species of finfish, of which no more than 10 fish of any one species may be taken or possessed by any one person. Petrale sole, Pacific sanddab, and starry flounder are not subject to a bag limit. Recreational spearfishing for all federally-managed groundfish, is exempt from closed areas and seasons, consistent with Title 14 of the California Code of Regulations. This exemption applies only to recreational vessels and divers provided no other fishing gear, except spearfishing gear, is on board the vessel. California state law may provide regulations similar to Federal regulations for kelp greenlings. Retention of cowcod, yelloweye rockfish, quillback rockfish, and bronzespotted rockfish, is prohibited in the recreational fishery seaward of California all year in all areas. Retention of species or species groups for which the season is closed is prohibited in the recreational fishery seaward of California all year in all areas, unless otherwise authorized in this section. For each person engaged in recreational fishing in the EEZ seaward of California, the following closed areas, seasons, bag limits, and size limits apply:

(i) * * *

(A) * * *

(1) Between 42° N lat. (California/Oregon border) and 40°10′ N lat. (Northern Management Area), recreational fishing for the RCG Complex and lingcod is closed from January 1 through May 14, is open at all depths from May 15 through October October 2, 2023, is prohibited in the EEZ shoreward of the boundary line approximating the 50 fm (91 m) depth contour along the mainland coast and along islands and offshore seamounts October 2, 2023 through December 31.

(2) Between 40°10′ N lat. and 38°57.50′ N lat. (Mendocino Management Area), recreational fishing for the RCG Complex and lingcod is closed from January 1 through May 14; prohibited in the EEZ shoreward of the boundary line approximating the 50 fm (91 m) depth contour along the mainland coast and along islands and offshore seamounts from May 15 through July 15 (seaward of 50 fm (91 m) is open), is open at all depths from July 16 through October 2, 2023, and is prohibited in the EEZ shoreward of the boundary line approximating the 50 fm (91 m) depth contour along the mainland coast and along islands and offshore seamounts from October 3, 2023 through December 31.

(3) Between 38°57.50′ N lat. and 37°11′ N lat. (San Francisco Management Area), recreational fishing for the RCG Complex and lingcod is closed from January 1 through May 14; is prohibited in the EEZ shoreward of the boundary line approximating the 50 fm (91 m) depth contour along the mainland coast and along islands and offshore seamounts from May 15 through July 15 (seaward of 50 fm (91 m) is open), is open at all depths from July 16 through October 2, 2023, and is prohibited in the EEZ shoreward of the boundary line approximating the 50 fm (91 m) depth contour along the mainland coast and along islands and offshore seamounts from October October 3, 2023 through December 31. Closures around Cordell Bank (see paragraph (c)(3)(i)(C) of this section) also apply in this area.

(4) Between 37°11′ N lat. and 34°27′ N lat. (Central Management Area), recreational fishing for the RCG Complex and lingcod is closed from January 1 through April 30, is open at all depths from May 1 through September 30; and is prohibited in the EEZ shoreward of a boundary line approximating the 50 fm (91 m) depth contour along the mainland coast and along islands and offshore seamounts from October 1 through December 31 (seaward of 50 fm (91 m) is open).

(5) South of 34°27′ N lat. (Southern Management Area), recreational fishing for the RCG Complex and lingcod is closed from January 1 through March 31, open at all depths from April 1 through September 15; and is prohibited in the EEZ shoreward of a boundary line approximating the 50 fm (91 m) depth contour from September 16 through December 31 along the mainland coast and along islands and offshore seamounts (seaward of 50 fm (91 m) is open), except in the CCAs where fishing is prohibited seaward of the 40 fm (73 m) depth contour when the fishing season is open (see paragraph (c)(3)(i)(B) of this section).

* * * * *

[FR Doc. 2023-21710 Filed 9-29-23; 8:45 am]

BILLING CODE 3510-22-C